DEPARTMENT OF DEFENSE

Department of the Army

Availability for Non-Exclusive, Exclusive, or Partially Exclusive Licensing of U.S. Patent Applications Concerning Electronic/Automated Information Systems and Methods Which Support the Practice of Medicine

AGENCY: Department of the Arm, DoD.

ACTION: Notice.

SUMMARY: In accordance with 37 CFR 404.6 and 404.7, announcement is made of the availability for licensing of the following, related U.S. patent applications which all relate to electronic/automated information systems and methods which support the practice of medicine:

U.S. Patent Application No.: 10/038,472.

Filed: January 3, 2002.

Title: Providing for Automated Note Completion.

U.S. Patent Application No.: 10/037,631.

Filed: January 3, 2002.

Title: Providing a Suggested Course of Treatment.

U.S. Patent Application No.: 10/038,567.

Filed: January 3, 2002.

Title: Standardized Inpatient—Outpatient Nomenclatures and Accepting Both Outpatient and Inpatient Data to Commonly Accessible Storage.

U.S. Patent Application No.: 10/037,627.

Filed: January 3, 2002.

Title: Collecting counter signatures.

U.S. Patent Application No.: 10/037,628.

Filed: January 3, 2002.

Title: Providing Outpatient and Inpatient Data Across Outpatient and Inpatient Facilities and Providing Automated Discharge Summary Narration.

The United States Government, as represented by the Secretary of the Army, has rights in these inventions.

ADDRESSES: Commander, U.S. Army Medical Research and Materiel Command, ATTN: Command Judge Advocate, MCMR-JA, 504 Scott Street, Fort Detrick, Frederick, Maryland 21702-5012.

FOR FURTHER INFORMATION CONTACT: For patent issues, Ms. Elizabeth Arwine, Patent Attorney, (301) 619-7808. For licensing issues, Dr. Paul Mele, Office of Research & Technology Assessment, (301) 619-6664, both at telefax (301) 619-5034.

SUPPLEMENTARY INFORMATION: The above-identified patent applications all claim the benefit of U.S. Provisional Patent Application No. 60/261,151, filed January 16, 2001, entitled “Standard Obstetric Record Charting System (STORC); Electronic Obstetric Record.”

Luz D. Ortiz,
Army Federal Register Liaison Officer.

[FR Doc. 02-12185 Filed 5-15-02; 8:45 am]

BILLING CODE 3710-08-M